DEPARTMENT OF ENERGY

Federal Energy Regulatory Commission

[Docket No. RP03-409-000]

Gulfstream Natural Gas System, L.L.C.; Notice of Proposed Changes in FERC Gas Tariff

May 6, 2003.

Take notice that on May 1, 2003, Gulfstream Natural Gas System, L.L.C. (Gulfstream) tendered for filing as part of its FERC Gas Tariff, Original Volume No. 1, the following tariff sheets, to be effective June 1, 2003:

First Revised Sheet No. 7

Second Revised Sheet No. 164

First Revised Sheet No. 165

Gulfstream states that it proposes to increase its fuel percentage for Transporter's Use in its tariff to 2.0 percent and defer the implementation of the System Balance Adjustment charge and the filing of future changes to the fuel percentage until 2005. Gulfstream states that this is necessary to permit average throughput levels to ramp up and permit the planned efficient operation of Gulfstream's compressors and to provide fuel rate certainty for the next two years.

Gulfstream states that copies of this filing have been mailed to all of its affected customers and interested state commissions.

Any person desiring to be heard or to protest this filing should file a motion to intervene or a protest with the Federal Energy Regulatory Commission, 888 First Street, NE., Washington, DC 20426, in accordance with §§ 385.214 and 385.211 of the Commission's Rules and Regulations. All such motions or protests must be filed in accordance with Section 154.210 of the Commission's Regulations. Protests will be considered by the Commission in determining the appropriate action to be taken, but will not serve to make protestants parties to the proceeding. Any person wishing to become a party must file a motion to intervene. This filing is available for review at the Commission in the Public Reference Room or may be viewed on the Commission's website at http://www.ferc.gov using the “FERRIS” link. Enter the docket number excluding the last three digits in the docket number field to access the document. For Assistance, please contact FERC Online Support at FERCOnlineSupport@ferc.gov or toll free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Comment Date: May 13, 2003.

Magalie R. Salas,
Secretary.

[FR Doc. 03-11801 Filed 5-12-03; 8:45 am]

BILLING CODE 6717-01-P